DEPARTMENT OF ENERGY

Federal Energy Regulatory Commission

Combined Notice of Filings #1

Take notice that the Commission received the following electric corporate filings:

Docket Numbers: EC18-124-000.

Applicants: Atlantic City Electric Company, Public Service Electric and Gas Company, Delmarva Power & Light Company, Potomac Electric Power Company, PECO Energy Company, PPL Electric Utilities Corporation, UGI Utilities Inc., Baltimore Gas and Electric Company.

Description: Supplement [Exhibit M] to July 23, 2018 Joint Application for Authorization Under Section 203 of the Federal Power Act, et al. of Atlantic City Electric Company, et al.

Filed Date: 9/12/18.

Accession Number: 20180912-5088.

Comments Due: 5 p.m. ET 9/26/18.

Take notice that the Commission received the following electric rate filings:

Docket Numbers: ER18-1567-001.

Applicants: South Carolina Electric & Gas Company.

Description: Compliance filing: Compliance filing to be effective 5/15/2018.

Filed Date: 9/13/18.

Accession Number: 20180913-5072.

Comments Due: 5 p.m. ET 10/4/18.

Docket Numbers: ER18-1959-002.

Applicants: Midcontinent Independent System Operator, Inc.

Description: Tariff Amendment: 2018-09-13_SA 2677 GRE-NSP 2nd Substitute 3rd Rev GIA (J278) to be effective 6/21/2018.

Filed Date: 9/13/18.

Accession Number: 20180913-5057.

Comments Due: 5 p.m. ET 9/20/18.

Docket Numbers: ER18-2311-001.

Applicants: SF Wind Enterprises, LLC.

Description: Tariff Amendment: Amendment to MBR Tariff Filing of SF Wind Enterprises, LLC to be effective 10/24/2018.

Filed Date: 9/12/18.

Accession Number: 20180912-5161.

Comments Due: 5 p.m. ET 10/3/18.

Docket Numbers: ER18-2415-000.

Applicants: S. D. Warren Company.

Description: § 205(d) Rate Filing: Notices of Succession Name change to be effective 9/17/2018.

Filed Date: 9/12/18.

Accession Number: 20180912-5162.

Comments Due: 5 p.m. ET 10/3/18.

Docket Numbers: ER18-2416-000

Applicants: nTherm,LLC.

Description: Baseline eTariff Filing: Initial Filing to be effective 12/31/9998.

Filed Date: 9/12/18.

Accession Number: 20180912-5174.

Comments Due: 5 p.m. ET 10/3/18.

Docket Numbers: ER18-2417-000.

Applicants: Avista Corporation.

Description: § 205(d) Rate Filing: Avista Corp FERC Rate Schedule 184 extension to be effective 10/1/2018.

Filed Date: 9/13/18.

Accession Number: 20180913-5003.

Comments Due: 5 p.m. ET 10/4/18.

Docket Numbers: ER18-2418-000.

Applicants: Great River Hydro, LLC.

Description: Compliance filing: New eTariff Baseline Filing to be effective 9/14/2018.

Filed Date: 9/13/18.

Accession Number: 20180913-5028.

Comments Due: 5 p.m. ET 10/4/18.

Docket Numbers: ER18-2419-000.

Applicants: Midcontinent Independent System Operator, Inc.

Description: § 205(d) Rate Filing: 2018-09-13_SA 2953 Quilt Block Wind Farm-ATC 2nd Rev GIA (J395 J652) to be effective 8/28/2018.

Filed Date: 9/13/18.

Accession Number: 20180913-5050.

Comments Due: 5 p.m. ET 10/4/18.

Docket Numbers: ER18-2420-000.

Applicants: American Transmission Systems, Incorporated, PJM Interconnection, L.L.C.

Description: § 205(d) Rate Filing: ATSI submits four ECSAs, Service Agreement Nos. 4982, 4995, 4997, and 4999 to be effective 11/13/2018.

Filed Date: 9/13/18.

Accession Number: 20180913-5073.

Comments Due: 5 p.m. ET 10/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2018.
Nathaniel J. Davis, Sr.,
Deputy Secretary.

[FR Doc. 2018-20356 Filed 9-18-18; 8:45 am]

BILLING CODE 6717-01-P